FEDERAL MARITIME COMMISSION

Ocean Transportation Intermediary License; Revocations

The Federal Maritime Commission hereby gives notice that the following ocean transportation intermediary licenses have been revoked pursuant to section 19 of the Shipping Act of 1984 (46 U.S.C. app. 1718) and the regulations of the Commission pertaining to the licensing of Ocean Transportation Intermediaries, effective on the corresponding dates shown below:

License Number: 4620F.

Name: Benjamin N.K. Ho d/b/a Horizon International Co.

Address: 1310 E. Ocean Blvd., #603, Long Beach, CA 90802.

Date Revoked: January 28, 2001.

Reason: Failed to maintain a valid bond

License Number: 15940N.

Name: Chunho Sea-Air Incorporated.

Address: 1360 Landmeier Road, Elk Grove Village, IL 60007.

Date Revoked: January 28, 2001.

Reason: Failed to maintain a valid bond

License Number: 4268F.

Name: J & S Universal Services, Inc. dba Patrick & Rosenfeld Shipping Corp.

Address: 1420 NW 82nd Avenue, Miami, FL 33126.

Date Revoked: January 26, 2001.

Reason: Failed to maintain a valid bond

License Number: 14718N.

Name: Kintetsu Flexipak, Inc.

Address: 3414 Yale Street, Houston, TX 77018.

Date Revoked: February 7, 2001.

Reason: Failed to maintain a valid bond

License Number: 14173NF.

Name: Pactrans Marine, Inc.

Address: 12801 South Figueroa Street, Los Angeles, CA 90061.

Date Revoked: January 26, 2001.

Reason: Failed to maintain a valid bond

License Number: 15474N.

Name: Phantom Transport, Inc.

Address: 18732 Crenshaw Blvd., Torrance, CA 90504.

Date Revoked: February 9, 2001.

Reason: Failed to maintain a valid bond.

Sandra L. Kusumoto,
Director, Bureau of Consumer Complaints and Licensing.

[FR Doc. 01-5596 Filed 3-7-01; 8:45 am]

BILLING CODE 6730-01-P